DEPARTMENT OF ENERGY

Federal Energy Regulatory Commission

[Project No. 13944-000]

Valley Affordable Housing Corporation; Notice of Preliminary Permit Application Accepted for Filing and Soliciting Comments, Motions To Intervene, and Competing Applications

January 21, 2011.

On December 10, 2010, the Valley Affordable Housing Corporation filed an application for a preliminary permit, pursuant to section 4(f) of the Federal Power Act (FPA), proposing to study the feasibility of the Manville Hydroelectric Project to be located at the Manville Dam, on the Blackstone River, in Providence County, Rhode Island. The sole purpose of a preliminary permit, if issued, is to grant the permit holder priority to file a license application during the permit term. A preliminary permit does not authorize the permit holder to perform any land-disturbing activities or otherwise enter upon lands or waters owned by others without the owners' express permission.

The proposed project would consist of: (1) The existing 22-foot-high, 260-foot-long Manville Dam with one-foot flashboards owned by the Town of Cumberland; (2) an existing 76-acre impoundment with a normal water surface elevation of 106 feet (National Geodetic Vertical Datum 1929); (3) a new trashrack and stoplogs; (4) a new approximately 60-foot-wide intake in place of a 60-foot-long section of the spillway that would be removed; (5) new 10-foot-long, 12-foot-wide dual concrete penstocks; (6) a new 30-foot-tall (extending 20 feet above the spillway), 60-foot-wide powerhouse adjacent to the training walls; (7) a new 25-foot-wide, 5-foot-deep crest gate adjacent to the powerhouse; (8) two new bulb Kaplan turbines with a combined installed capacity of 1,026 kilowatts; (9) a new approximately 800-foot-long, 480-volt transmission line; and (10) appurtenant facilities. The project would have an estimated annual generation of 4,221 megawatt-hours.

Applicant Contact: Peter Bouchard, Valley Affordable Housing Corporation, 895 Mendon Road, Cumberland, RI 02864; phone: (401) 334-2802.

FERC Contact: Brandon Cherry; phone: (202) 502-8328.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13944) in the docket number field to access the document. For assistance, contact FERC Online Support.

Kimberly D. Bose,
Secretary.

[FR Doc. 2011-2138 Filed 1-31-11; 8:45 am]

BILLING CODE 6717-01-P